DEPARTMENT OF THE INTERIOR

Bureau of Land Management

43 CFR Part 3830

[LLWO320000-L19900000.PP0000]

RIN 1004-AE35

Required Fees for Mining Claims or Sites

AGENCY: Bureau of Land Management, Interior.

ACTION: Final rule.

SUMMARY: The Bureau of Land Management (BLM) is issuing this final rule to make statutorily authorized adjustments to its location and maintenance fees for unpatented mining claims, mill sites, and tunnel sites. These adjustments reflect changes in the Consumer Price Index (CPI), which is published by the Bureau of Labor Statistics.

DATES: The final rule is effective June 30, 2014.

ADDRESSES: You may submit inquiries to: Mail: Director (630), Bureau of Land Management, U.S. Department of the Interior, 1849 C St. NW., Washington, DC 20240, Attention: 1004-AE27. Personal or messenger delivery: U.S. Department of the Interior, Bureau of Land Management, 20 M St. SE., Room 2134LM, Attention: Regulatory Affairs, Washington, DC 20003. Federal eRulemaking Portal: http://www.regulations.gov. Follow the instructions at this Web site.

FOR FURTHER INFORMATION CONTACT: Sonia Santillan at 202-912-7123, in the Solid Minerals Group as to program matters or the substance of the final rule or Jennifer Noe in the Division of Regulatory Affairs at 202-912-7442 for information relating to the rulemaking process generally. Persons who use a telecommunications device for the deaf (TDD) may call the Federal Information Relay Service (FIRS) at 1-800-877-8339, 24 hours a day, seven days a week to contact the above individuals.

SUPPLEMENTARY INFORMATION:

I. Background

II. Discussion of the Final Rule

III. Procedural Matters

I. Background

The Mining Law of 1872 allows individuals and corporations to prospect for mineral deposits in public lands, and stake (or “locate”) a claim on the deposits discovered. Historically, annual assessment work and related filings have been required by statute in order to maintain an unpatented mining claim or site. (30 U.S.C. 28-28e; 43 U.S.C. 1744(a) and (c)).

Beginning in fiscal year 1993, mining claimants have been required to pay an annual maintenance fee in lieu of performing annual assessment work and making annual filings. Mining claimants locating new claims or sites must also pay a one-time location fee. (30 U.S.C. 28f-28l).

This rule implements 30 U.S.C. 28j(c), which authorizes adjustments to the location and annual maintenance fees “to reflect changes in the Consumer Price Index published by the Bureau of Labor Statistics of the Department of Labor every 5 years after August 10, 1993, or more frequently if the Secretary determines an adjustment to be reasonable.” Section 28j(c) also requires that mining claimants be provided “notice of any adjustment made under this subsection not later than July 1 of any year in which the adjustment is made,” and that any fee adjustment “shall begin to apply the first assessment year which begins after adjustment is made.”

As enacted in 1993, the one-time location fee was $25, and the annual maintenance fee was $100 per mining claim or site. In 2004, the BLM increased the amount of the location and maintenance fees to $30 and $125 respectively, based on the change in the CPI from September 1, 1993, to December 31, 2003, 69 FR 40294 (July 1, 2004). Then in 2009, the BLM increased the amount of the location and maintenance fees to $34 and $140, respectively, based on the change in the CPI from December 31, 2003, to December 31, 2008, 74 FR 30959 (June 29, 2009). The BLM has promulgated other rules that have affected other aspects of the table of charges and fees at 43 CFR 3830.21, the regulation that is amended by this rule. For example, on July 27, 2012, the BLM published an interim final rule, 77 FR 44155 (July 27, 2012), that amended 43 CFR 3830.21 pursuant to a statutory amendment enacted in December of 2011, which changed the way the maintenance fee is calculated for unpatented placer mining claims.

The adjustments made in this rule are based upon the change in the CPI from December 31, 2008, to December 31, 2013, as reported by the Bureau of Labor Statistics in the CPI Detailed Report, Table 24C, Historical Chained Consumer Price Index for All Urban Consumers (C-CP-U): U.S. city average, all items (http://www.bls.gov/cpi/cpid1312.pdf). The calculated change is 9.96 percent from December 31, 2008, through December 31, 2013. A calculated value for the fees was obtained by inflating the location and maintenance fees established in the 2009 rulemaking by 9.96 percent. The new location fee is $37 for each mining claim or site. The new maintenance fee is $155 for each lode mining claim, mill site, or tunnel site; and $155 for each 20 acres or portion thereof for each placer mining claim. The new location fee is based on rounding the calculated value to the nearest $1. The new maintenance fee is based on rounding the calculated value to the nearest $5.

Mining claimants must pay the new location and maintenance fee for any mining claim or site located on or after September 1, 2014. Mining claimants must also pay the new maintenance fee for existing mining claims and sites to maintain those claims and sites, beginning with the 2015 assessment year. The maintenance fee for existing claims and sites is due on or before September 1, 2014. In accordance with 43 CFR 3834.23(d), mining claimants who have already submitted maintenance fee payments for the 2015 assessment year, or those who timely pay the 2015 assessment year maintenance fee based on the fee in effect immediately before the adjustment was made, will be given an opportunity to pay the additional amount without penalty upon notice from the BLM. The BLM will also give claimants the opportunity to cure deficient maintenance and location fee payments for new claims or sites located on or after September 1, 2014, and timely received on or before December 31, 2014. Failure to cure the payments within the time allowed will cause the affected mining claims or sites to be forfeited. After December 31, 2014, the full maintenance and location fee payments, based on the new amounts, are required at the time of recording along with the required processing fee.

II. Discussion of the Final Rule

Why the Rule Is Being Published on a Final Basis

The BLM is adopting this final rule solely to adjust the location and maintenance fee amounts in paragraphs (a) and (d) of section 43 CFR 3830.21. The BLM for good cause finds under 5 U.S.C. 553(b)(3)(B) that notice and an opportunity for public comment for this rule are unnecessary, and that this rule may properly take effect upon publication. The reason is that this rule implements a statutory requirement to adjust the location and annual maintenance fees at least every 5 years, and the last adjustment was made in 2009. The statute specifies the method of calculation of the fee adjustments and prescribes the form and manner of notice of the fee adjustment, and the BLM has no discretion in implementing the statute. The BLM also determines under 5 U.S.C. 553(d) that there is good cause to place the rule into effect on the date of publication, because the adjustments made in the rule are explicitly authorized by statute.

Organization of the Final Rule

This final rule contains only the specific amendments necessary to conform to the requirements of the statute. The amendments appear as modifications of the fee transaction table at 43 CFR 3830.21 to change the amount of the location and annual maintenance fees required to be paid for each lode mining claim, mill site, or tunnel site, and for each 20 acres or portion thereof for each placer mining claim.

III. Procedural Matters

Executive Order 12866, Regulatory Planning and Review

In accordance with the criteria in Executive Order 12866, BLM has determined that this rule is not a significant regulatory action.

• The rule will not have an annual effect on the economy of $100 million or more or adversely affect in a material way the economy, a sector of the economy, productivity, competition, jobs, the environment, public health or safety, or State, local, or tribal governments or communities. The fee adjustment does not change the substance of current mining claim administration within the BLM. The total amount of fees to be collected, including the effects of the adjustment, is estimated to be $59 million annually, of which approximately $5 million will be attributable to the adjustments made in this rule.

• This rule will not create inconsistencies with other agencies' actions. It does not change the relationships of the BLM to other agencies and their actions.

• This rule will not materially affect entitlements, grants, loan programs, or the rights and obligations of their recipients. The rule does not address any of these programs.

• This rule will not raise novel legal or policy issues because it makes no major substantive changes in the regulations. The Constitutionality of the location and maintenance fees has been challenged in the Federal courts. The courts have consistently upheld the fee legislation and implementing regulations.

Regulatory Flexibility Act

The BLM certifies that this rule will not have a significant economic effect on a substantial number of small entities as defined under the Regulatory Flexibility Act (5 U.S.C. 601 et seq.) The rule will have a minor impact because the fees paid by small entities will be adjusted. Although the new fees will impact a substantial number of small entities, the fee increases do not represent a significant economic effect. A final Regulatory Flexibility Analysis is not required, and a Small Entity Compliance Guide is not required. For the purposes of this section a “small entity” is an individual, limited partnership, or small company, at “arm's length” from the control of any parent companies, with fewer than 500 employees or less than $7 million in revenue. This definition is consistent with Small Business Administration regulations at 13 CFR 121.201.

Small Business Regulatory Enforcement Fairness Act

This rule is not a major rule under 5 U.S.C. 804(2), the Small Business Regulatory Enforcement Fairness Act. This rule:

• Will not have an annual effect on the economy of $100 million or more. The revised regulation will not materially alter current BLM policy. The fee adjustments are authorized by statute. The total amount of fees collected, including the effects of the adjustment, is estimated to be $59 million annually, of which $5 million is attributable to the adjustments made in this rule.

• Will not cause a major increase in costs or prices for consumers, individual industries, Federal, State, or local government agencies, or geographic regions.

• Will not have significant adverse effects on competition, employment, investment, productivity, innovation, or the ability of U.S.-based enterprises to compete with foreign-based enterprises.

Unfunded Mandates Reform Act

In accordance with the Unfunded Mandates Reform Act (2 U.S.C. 1501 et seq.):

• This rule will not “significantly or uniquely” affect small governments. A Small Government Agency Plan is unnecessary.

• This rule will not produce a Federal mandate of $100 million or greater in any year. It is not a “significant regulatory action” under the Unfunded Mandates Reform Act. The changes implemented in this rule do not require anything of any non-Federal governmental entity.

Executive Order 12630, Takings

In accordance with Executive Order 12630, the BLM finds that the rule does not have takings implications. A takings implication assessment is not required. This rule does not substantially change BLM policy. Nothing in this rule constitutes a taking. The Federal courts have heard a number of suits challenging the imposition of the rental and maintenance fees as a taking of a right, or, alternatively, as an unconstitutional tax. The courts have upheld the fee legislation and the BLM regulations as a proper exercise of Congressional and Executive authorities.

Executive Order 13132, Federalism

The final rule will not have a substantial direct effect on the states, on the relationship between the national government and the states, or on the distribution of power and responsibilities among the various levels of government. Therefore, in accordance with Executive Order 13132, the BLM has determined that the final rule does not have sufficient Federalism implications to warrant preparation of a Federalism Assessment.

Executive Order 13175, Consultation and Coordination With Indian Tribal Governments

In accordance with Executive Order 13175, the BLM finds that the final rule does not include policies that have Tribal implications. Because this rule does not make significant substantive changes in the regulations and does not specifically involve Indian reservation lands (which are closed to the operation of the Mining Law), the BLM finds that the rule will have no implications for Indians, Indian Tribes, and Tribal governments.

Executive Order 12988, Civil Justice Reform

In accordance with Executive Order 12988, the BLM finds that the final rule does not unduly burden the judicial system, and therefore meets the requirements of sections 3(a) and 3(b)(2) of the Order. The BLM consulted with the Department of the Interior's Office of the Solicitor during the drafting process.

Paperwork Reduction Act

The BLM has determined this final rule does not contain any new information collection requirements that the Office of Management and Budget (OMB) must approve under the Paperwork Reduction Act of 1995 (44 U.S.C. 3501 et seq.). The OMB has approved the information collection requirements in the regulations under OMB control number 1004-0114 that pertain to the payment of mining claim recordation and maintenance fees.

National Environmental Policy Act (NEPA)

This final rule does not constitute a major Federal action significantly affecting the quality of the human environment. A detailed statement under the National Environmental Policy Act of 1969 (NEPA) is not required because this rule is part of the routine administration of the fee legislation and is covered by a Departmental categorical exclusion provided for under 43 CFR 46.210(f). This rule will result in no new surface disturbing activities and therefore will have no effect on ecological or cultural resources. In promulgating this rule, the government is conducting routine and continuing government business of an administrative nature having limited context and intensity. Therefore, it is categorically excluded from environmental review under section 102(2)(C) of NEPA, pursuant to 43 CFR 46.205. The rule does not meet any of the extraordinary circumstances criteria for categorical exclusions listed at 43 CFR 46.215. Under Council on Environmental Quality regulations (40 CFR 1508.4) and the environmental policies and procedures of the Department, the term “categorical exclusion” means a category of actions which do not individually or cumulatively have a significant effect on the human environment and which have been found to have no such effect on procedures adopted by a Federal agency and for which, therefore, neither an environmental assessment nor an environmental impact statement is required.

Executive Order 13211, Actions Concerning Regulations That Significantly Affect Energy Supply, Distribution, or Use

This rule is not a significant energy action. It will not have an adverse effect on energy supplies. To the extent that the rule affects the mining of energy minerals (i.e., uranium and other fissionable metals), the rule applies only a statutory adjustment of the mining claim location and maintenance fees that the BLM has been collecting for many years. It will not significantly change financial obligations of the mining industry.

Author

The principal author of this final rule is Sonia Santillan in the Solid Minerals Group assisted by the Division of Regulatory Affairs, Washington Office, BLM.

List of Subjects in 43 CFR Part 3830

Mineral royalties, Mines, Public lands—mineral resources, Reporting and recordkeeping requirements.

For the reasons stated in the preamble, the BLM amends 43 CFR part 3830 as follows:

PART 3830—LOCATING, RECORDING, AND MAINTAINING MINING CLAIMS OR SITES; GENERAL PROVISIONS

1. The authority citation for part 3830 continues to read as follows:

Authority: 18 U.S.C. 1001, 3571; 30 U.S.C. 22, 28, 28k, 242, 611; 31 U.S.C. 9701; 43 U.S.C. 2, 1201, 1212, 1457, 1474, 1740, 1744; 115 Stat. 414; Pub. L. No. 112-74, 125 Stat. 786.

Subpart D—BLM Service Charge and Fee Requirements

2. Amend § 3830.21 by revising paragraphs (a) and (d) of the table to read as follows:

§ 3830.21 What are the different types of service charges and fees?

* * * * *

Transaction | Amount due per mining claim or site | Waiver available
(a) Recording a mining claim or site location (part 3833) | A total sum which includes: (1) The processing fee for notices of location found in the fee schedule in § 3000.12 of this chapter; | No.
| (2) A one-time $37 location fee; and
| (3)(i) For lode claims, mill sites and tunnel sites, an initial $155 maintenance fee; or
| (ii) For placer claims, an initial $155 maintenance fee for each 20 acres of the placer claim or portion thereof.
* * * * * * *
(d) Maintaining a mining claim or site for one assessment year (part 3834) | (1) For lode claims, mill sites and tunnel sites, an annual maintenance fee of $155 must be paid on or before September 1 each year | Yes. See part 3835.
| (2) For placer claims, a $155 annual maintenance fee for each 20 acres of the placer claim or portion thereof must be paid on or before September 1 each year.

Janice M. Schneider,
Assistant Secretary, Land and Minerals Management.

[FR Doc. 2014-15259 Filed 6-27-14; 8:45 am]

BILLING CODE 4310-84-P